DEPARTMENT OF HEALTH AND HUMAN SERVICES

Federal Health IT Strategic Plan: 2011-2015 Open Comment Period

AGENCY: Office of the National Coordinator for Health Information Technology, HHS.

ACTION: Notice.

SUMMARY: Section 3001(c)(3) of the Public Health Service Act, as added by the Health Information Technology for Economic and Clinical Health (HITECH) Act, requires the National Coordinator for Health Information Technology (ONC) to update the Federal Health IT Strategic Plan (developed June 3, 2008) in consultation with other appropriate Federal agencies and in collaboration with private and public entities. Work on the five-year Plan began more than a year ago and has included collaboration across federal agencies, as well with the private sector via the HIT Policy Committee. This notice serves to announce that the public comment period for the Federal Health IT Strategic Plan is open through Friday, April 22 at 11:59 p.m. (Eastern). ONC welcomes and encourages all comments from the public regarding the Plan.

In order for your comments to be read and considered, you must submit your comment via the Federal Health IT Buzz Blog: http://www.healthit.gov/buzz-blog/.

Dated: March 23, 2011.
Erin Poetter,
Office of Policy and Planning, Office of the National Coordinator for Health Information Technology.

[FR Doc. 2011-7318 Filed 3-28-11; 8:45 am]

BILLING CODE 4150-45-P